SECURITIES AND EXCHANGE COMMISSION

[Release No. 34-97648; File No. SR-ICC-2023-002]

Self-Regulatory Organizations; ICE Clear Credit LLC; Notice of Withdrawal of Proposed Rule Relating to the Clearance of Additional Credit Default Swap Contracts

June 5, 2023.

On February 28, 2023, ICE Clear Credit LLC (“ICC”) filed with the Securities and Exchange Commission (“Commission”) the proposed rule change SR-ICC-2023-002 (“Proposed Rule Change”), pursuant to Section 19(b) of the Securities Exchange Act of 1934 (“Exchange Act”) ¹ and Rule 19b-4 ² thereunder, to clear additional credit default swap contracts. The Proposed Rule Change was published for public comment in the Federal Register on March 15, 2023.³ On April 21, 2023, the Commission designated a longer period within which to approve, disapprove, or institute proceedings to determine whether to disapprove the Proposed Rule Change.⁴ The Commission has not received comments regarding the proposal described in the Proposed Rule Change.

¹ 15 U.S.C. 78s(b)(1).

² 17 CFR 240.19b-4.

³ Self-Regulatory Organizations; ICE Clear Credit LLC; Notice of Filing of Proposed Rule Change Relating to the Clearance of Additional Credit Default Swap Contracts; Exchange Act Release No. 97094 (Mar. 9, 2023), 88 FR 16042 (Mar. 15, 2023) (File No. SR-ICC-2023-002).

⁴ Self-Regulatory Organizations; ICE Clear Credit LLC; Notice of Designation of Longer Period for Commission Action on Proposed Rule Change Relating to the Clearance of Additional Credit Default Swap Contracts; Exchange Act Release No. 97348 (Apr. 21, 2023), 88 FR 25717 (Apr. 27, 2023) (File No. SR-ICC-2023-002).

On May 10, 2023, ICC withdrew the Proposed Rule Change (SR-ICC-2023-002).

For the Commission, by the Division of Trading and Markets, pursuant to delegated authority.⁵
⁵ 17 CFR 200.30-3(a)(31).
Sherry R. Haywood,
Assistant Secretary.

[FR Doc. 2023-12300 Filed 6-8-23; 8:45 am]

BILLING CODE 8011-01-P